LEGAL SERVICES CORPORATION

Sunshine Act Meeting of the Board of Directors Search Committee for LSC President and Inspector General

Time and Date: The Search Committee for LSC President and Inspector General of the Legal Services Corporation's Board of Directors will meet on September 15, 2003. The meeting will begin at 11 a.m. and continue until conclusion of the Committee's agenda.

Location: The Melrose Hotel, 2430 Pennsylvania Avenue, NW., Washington, DC 20037.

Status of Meeting: Open.

Matters to be Considered: Open Session

1. Approval of agenda.

2. Approval of the minutes of the Committee's meeting of August 6, 2003.

3. Consider and act on qualifications for the position of LSC President.

4. Consider and act on the process for the selection of an LSC President, including, but not limited to the scheduling of candidate interviews and changes to the Committee's aspirational timeline.

5. Public comment.

6. Consider and act on other business.

7. Consider and act on adjournment of meeting.

FOR FURTHER INFORMATION CONTACT: Victor M. Fortuno, Vice President for Legal Affairs, General Counsel and Corporate Secretary, at (202) 295-1500.

Special Needs: Upon request, meeting notices will be made available in alternate formats to accommodate visual and hearing impairments. Individuals who have a disability and need an accommodation to attend the meeting may notify Elizabeth S. Cushing at (202) 295-1500.

Dated: September 5, 2003.
Victor M. Fortuno,
Vice President for Legal Affairs, General Counsel & Corporate Secretary.

[FR Doc. 03-23123 Filed 9-5-03; 4:13 pm]

BILLING CODE 7050-01-P